DEPARTMENT OF LABOR

Occupational Safety and Health Administration

[Docket No. OSHA-2007-0083]

Applied Research Laboratories of South Florida, LLC: Grant of Recognition as a Nationally Recognized Testing Laboratory

AGENCY: Occupational Safety and Health Administration (OSHA), Labor.

ACTION: Notice.

SUMMARY: In this notice, OSHA announces its final decision to grant recognition to Applied Research Laboratories of South Florida, LLC, as a Nationally Recognized Testing Laboratory (NRTL).

DATES: Recognition as a NRTL becomes effective on April 25, 2018.

FOR FURTHER INFORMATION CONTACT: Information regarding this notice is available from the following sources:

Press inquiries: Contact Mr. Frank Meilinger, Director, OSHA Office of Communications, U.S. Department of Labor, telephone: (202) 693-1999; email: Meilinger.francis2@dol.gov.

General and technical information: Contact Mr. Kevin Robinson, Director, Office of Technical Programs and Coordination Activities, Directorate of Technical Support and Emergency Management, Occupational Safety and Health Administration, telephone: (202) 693-2110; email: robinson.kevin@dol.gov. OSHA's web page includes information about the NRTL Program (see http://www.osha.gov/dts/otpca/nrtl/index.html).

SUPPLEMENTARY INFORMATION:

I. Background

Many of OSHA's workplace standards require that a NRTL test and certify certain types of equipment as safe for use in the workplace. NRTLs are independent laboratories that meet OSHA's requirements for performing safety testing and certification of products used in the workplace. To obtain and retain OSHA recognition, the NRTLs must meet the requirements in the NRTL Program regulations at 29 CFR 1910.7. More specifically, to be recognized by OSHA, an organization must: (1) Have the appropriate capability to test, evaluate, and approve products to assure their safe use in the workplace; (2) be completely independent of employers subject to the tested equipment requirements, and manufacturers and vendors of products for which OSHA requires certification; (3) have internal programs that ensure proper control of the testing and certification process; and (4) have effective reporting and complaint handling procedures. Recognition is an acknowledgement by OSHA that the NRTL has the capabilities to perform independent safety testing and certification of the specific products covered within the NRTL's scope of recognition. Recognition of a NRTL by OSHA also allows employers to use products certified by that NRTL to meet those OSHA standards that require product testing and certification.

The Agency processes applications for initial recognition following requirements in Appendix A of 29 CFR 1910.7. This appendix requires OSHA to publish two notices in the Federal Register in processing an application. In the first notice, OSHA announces the application, provides its preliminary finding, and solicits comments on its preliminary findings. In the second notice, the Agency provides its final decision on the application. These notices set forth the NRTL's scope of recognition.

II. Notice of Final Decision

OSHA hereby gives notice of the Agency's decision to grant recognition to Applied Research Laboratories of South Florida, LLC (ARL), as a NRTL. According to its public information (see http://www.arl-test.com), ARL states that it is an internationally accredited testing laboratory. In its application, ARL lists the current address of its headquarters as: Applied Research Laboratories of South Florida, LLC, 5371 SW 161 Street, Miami, Florida 33014.

Each NRTL's scope of recognition has three elements: (1) The type of products the NRTL may test, with each type specified by its applicable test standard; (2) the recognized site(s) that have the technical capability to perform the product-testing and product-certification activities for the applicable test standards within the NRTL's scope of recognition; and (3) the supplemental program(s) that the NRTL may use, each of which allows the NRTL to rely on other parties to perform activities necessary for testing and certification. ARL applied on March 5, 2014, for initial recognition as a NRTL. In its initial application, ARL requested recognition for two test standards, one site, and two supplemental programs (OSHA-2007-0083-0050). This application was amended on December 1, 2014, to add one additional test standard (OSHA-2007-0083-0051).¹

¹ ARL requested recognition for UL 1995, UL 1996, and UL 96. OSHA denies ARL's UL 96 application. OSHA is, on the date of publication of the current notice in the Federal Register, also issuing a Federal Register Notice removing UL 96 from OSHA's List of Appropriate Test Standards because UL 96 is not an appropriate test standard. That notice can be accessed via www.regulations.gov under Docket ID OSHA-2013-0012.

OSHA published the preliminary notice announcing ARL's application for recognition in the Federal Register on February 23, 2018 (83 FR 8113). The Agency requested comments by March 26, 2018, but it received no comments in response to this notice. OSHA now is proceeding with this final notice to grant recognition to ARL as a NRTL.

To obtain or review copies of all public documents pertaining to ARL's application, go to www.regulations.gov or contact the Docket Office, Occupational Safety and Health Administration, U.S. Department of Labor, 200 Constitution Avenue NW, Room N-2625, Washington, DC 20210. Docket No. OSHA-2007-0083 contains all materials in the record concerning ARL's recognition.

III. Final Decision and Order

OSHA staff performed a detailed analysis of ARL's application packet and reviewed other pertinent information. OSHA staff also performed three comprehensive on-site assessments of ARL's testing facilities on February 25-26, 2015, March 30, 2016, and November 28-29, 2017. Based on a review of this evidence, OSHA finds that ARL meets the requirements of 29 CFR 1910.7 for recognition as a NRTL, subject to the specified limitation and conditions outlined in this notice. OSHA, therefore, is proceeding with this final notice to grant recognition to ARL as a NRTL. The following sections set forth the scope of recognition included in ARL's grant of recognition.

A. Standards Requested for Recognition

OSHA limits ARL's scope of recognition to testing and certification of products for demonstration of conformance to the test standards listed in Table 1.

Table 1—List of Appropriate Test Standards for Inclusion in ARL's NRTL Scope of Recognition
Test standard | Test standard title
UL 1995 | Heating and Cooling Equipment.
UL 1996 | Standard for Electric Duct Heaters.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

B. Sites Requested for Recognition

OSHA limits ARL's scope of recognition to include the site at:

Applied Research Laboratories of South Florida, LLC, 5371 NW 161 Street, Miami, Florida 33014.

OSHA's recognition of this site limits ARL to performing product testing and certifications only to the test standards for which the site has the proper capability and programs, and for test standards in ARL's scope of recognition. This limitation is consistent with the recognition that OSHA grants to other NRTLs that operate multiple sites.

C. Supplemental Programs

OSHA limits ARL's scope of recognition to include the following supplemental programs:

Program 9: Acceptance of services other than testing or evaluation performed by subcontractors or agents (for calibration services only).

D. Conditions

In addition to those conditions already required by 29 CFR 1910.7, ARL must abide by the following conditions of the recognition:

1. ARL must inform OSHA as soon as possible, in writing, of any change of ownership, facilities, or key personnel, and of any major change in its operations as an NRTL, and provide details of the change(s);

2. In response to a proposed corrective action to the February 2015 on-site assessment, OSHA Proposed and ARL agrees to increased OSHA oversight of its operations including

• More frequent on-site assessments of ARL facilities;

• ARL providing OSHA with periodic reports listing the products that have been certified under the NRTL Program; and

3. Confirmation from ARL that products with ARL Listings (non-NRTL) will undergo re-evaluation and re-testing and/or a thorough documented review of previously gathered evaluation and testing results prior to NRTL certification.

4. ARL must meet all the terms of its recognition and comply with all OSHA policies pertaining to this recognition; and

5. ARL must continue to meet the requirements for recognition, including all previously published conditions on ARL's scope of recognition, in all areas for which it has recognition.

Pursuant to the authority in 29 CFR 1910.7, OSHA hereby grants recognition to ARL as a NRTL, subject to these limitations and conditions specified above.

IV. Authority and Signature

Loren Sweatt, Deputy Assistant Secretary of Labor for Occupational Safety and Health, authorized the preparation of this notice. Accordingly, the Agency is issuing this notice pursuant to 29 U.S.C. 657(g)(2), Secretary of Labor's Order No. 1-2012 (77 FR 3912, Jan. 25, 2012), and 29 CFR 1910.7.

Signed at Washington, DC, on April 19, 2018.
Loren Sweatt,
Deputy Assistant Secretary of Labor for Occupational Safety and Health.

[FR Doc. 2018-08598 Filed 4-24-18; 8:45 am]

BILLING CODE 4510-26-P